DEPARTMENT OF TRANSPORTATION

Federal Aviation Administration

Public Notice For Waiver for Aeronautical Land-Use Assurance at Pleasanton Municipal Airport, Pleasanton, TX

AGENCY: Federal Aviation Administration, DOT.

ACTION: Notice of intent for waiver of aeronautical land-use.

SUMMARY: The Federal Aviation Administration (FAA) is considering a proposal to change a portion of the airport from aeronautical use to nonaeronautical use and to authorize the conversion of the airport property. The proposal consists of one parcel of land containing a total of approximately 1.6 acres to be used for a fire station. Additionally, the change-in-use of 0.19 acres from aeronautical to non-aeronautical use, approved in 1999 for a fire station that was never constructed, will now revert back to aeronautical use.

The property was acquired in 1973 by grant funds. The land comprising this parcel is outside the forecasted need for aviation development and, thus, is no longer needed for indirect or direct aeronautical use. The airport wishes to develop this land for a fire station. The income from the conversion of this parcel will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with Section 47107(h) of Title 49, United States Code, this notice is required to be published in the Federal Register 30 days before modifying the land-use assurance that requires the property to be used for an aeronautical purpose.

DATES: Comments must be received on or before July 5, 2016.

ADDRESSES: Send comments on this document to Mr. Cameron Bryan, Federal Aviation Administration, Acting Manager, Texas Airports Development Office, 10101 Hillwood Parkway, Fort Worth, TX 76177.

FOR FURTHER INFORMATION CONTACT: Mr. Bruce Pearson, City Manager, City of Pleasanton, P.O. Box 209 Pleasanton, TX 78064, telephone (830) 569-3867, or Mr. Anthony Mekhail, Federal Aviation Administration, Texas Airports Development Program Manager, 10101 Hillwood Parkway, Fort Worth, TX 76177, telephone (817) 222-5663, FAX (817) 222-5989. Documents reflecting this FAA action may be reviewed at the above locations.

Issued in Fort Worth, Texas on May 26, 2016.
Ignacio Flores,
Manager, Airports Division, FAA, Southwest Region.

[FR Doc. 2016-13147 Filed 6-2-16; 8:45 am]

BILLING CODE 4910-13-P